ENVIRONMENTAL PROTECTION AGENCY

[EPA-HQ-OPP-2006-0237 FRL-8090-4]

Cadmus Group, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Cadmus Group, Inc., in accordance with 40 CFR 2.307(h)(3) and 2.308(i)(2). Cadmus Group, Inc., has been awarded multiple contracts to perform work for OPP, and access to this information will enable Cadmus Group, Inc., to fulfill the obligations of the contract.

DATES: Cadmus Group, Inc., will be given access to this information on or before September 11, 2006.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: felicia croom@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2006-0237 Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Contractor Requirements

Under these contract numbers, the contractor will perform the following:

Under contract no. 68-C-02-026, the contract will require the contractor to have access to CBI data to review and evaluate the most recent information on the toxicity, occurrence and exposure to atrazine and triazines in water. In addition, it is anticipated that their need to have CBI clearance will be necessary to access the best available, peer reviewed science to support decisions and develop analyses for the Six-Year Review of National Primary Drinking Water Regulations and the contaminant candidate list processes which consider the occurrence and health effects of pesticides.

These contracts involve no subcontractors.

The OPP has determined that the contracts described in this document involve work that is being conducted in connection with FIFRA, and that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contracts with Cadmus Group, Inc., prohibits use of the information for any purpose not specified in these contracts; prohibits disclosure of the information to a third party without prior written approval from the Agency; and requires that each official and employee of the contractor sign an agreement to protect the information from unauthorized release and to handle it in accordance with the FIFRA Information Security Manual. In addition, Cadmus Group, Inc., is required to submit for EPA approval, a security plan under which any CBI will be secured and protected against unauthorized release or compromise. No information will be provided to Cadmus Group, Inc., until the requirements in this document have been fully satisfied. Records of information provided to Cadmus Group, Inc., will be maintained by EPA Project Officers for these contracts. All information supplied to Cadmus Group, Inc., by EPA for use in connection with these contracts will be returned to EPA when Cadmus Group, Inc., has completed its work.

List of Subjects

Environmental protection, Business and industry, Government contracts, Government property, Security measures.

Dated: August 29, 2006.
Robert Forrest,
Acting Director, Office of Pesticide Programs.

[FR Doc. E6-14717 Filed 9-5-06; 8:45 am]

BILLING CODE 6560-50-S